NATIONAL AERONAUTICS AND SPACE ADMINISTRATION

48 CFR Parts 1827 and 1852

NASA Federal Acquisition Regulation Supplement

AGENCY: National Aeronautics and Space Administration.

ACTION: Technical amendments.

SUMMARY: NASA is making technical amendments to the NASA FAR Supplement (NFS) to provide needed editorial changes.

DATES: Effective: October 15, 2015.

FOR FURTHER INFORMATION CONTACT: Manuel Quinones, NASA, Office of Procurement, Contract and Grant Policy Division, via email at manuel.quinones@nasa.gov, or telephone (202) 358-2143.

SUPPLEMENTARY INFORMATION:

I. Background

As part NASA's retrospective review of existing regulations pursuant to section 6 of Executive Order 13563, Improving Regulation and Regulatory Review, NASA conducted a comprehensive review of it regulations and published two final rules in the Federal Register (80 FR 12935 and 80 FR 36719) on March 12, 2015, and June 26, 2015, respectively. As published, these rules contain errors due to inadvertent omission of affected clause dates and other errors that need to be corrected. A summary of changes follows:

• Section 1827.409 is revised to reinsert clause prescription paragraphs 1827.409(g), (i), and (k), which were inadvertently omitted from the rule published on March 12, 2015 (80 FR 12935).

• Sections 1852.203-71, 1852.204-76, 1852.215-77, 1852.216-90, 1852.225-8, 1852.227-17, 1852.227-19, 1852.227-88, 1852.237-72, and 1852.237-73 are revised to correct clause dates and/or clause titles.

List of Subject in 48 CFR Parts 1827 and 1852

Government procurement.

Manuel Quinones,
NASA FAR Supplement Manager.

Accordingly, 48 CFR parts 1827 and 1852 are amended as follows:

PART 1827—PATENTS, DATA, AND COPYRIGHTS

1. The authority citation for part 1827 is revised to read as follows:

Authority: 51 U.S.C. 20113(a) and 48 CFR chapter 1.

2. Amend section 1827.409 by adding paragraphs (g), (i), and (k) to read as follows:

1827.409 Solicitation provisions and contract clauses.

* * * * *

(g) The contracting officer shall use the clause at 1852.227-86, Commercial Computer Software License, in lieu of FAR 52.227-19, Commercial Computer Software License, when it is considered appropriate for the acquisition of existing computer software.

* * * * *

(i) The contract officer shall modify the clause at FAR 52.227-17, Rights in Data—Special Works by adding paragraph (f) as set forth in 1852.227-17.

(k)(i) The contracting officer shall add paragraph (e) as set forth in 1852.227-19(a) to the clause at FAR 52.227-19, Commercial Computer Software License, when it is contemplated that updates, correction notices, consultation information, and other similar items of information relating to commercial computer software delivered under a purchase order or contract are available and their receipt can be facilitated by signing a vendor supplied agreement, registration forms, or cards and returning them directly to the vendor.

(ii) The contracting officer shall add paragraph (f) as set forth at 1852.227-19(b) to the clause at FAR 52.227-19, Commercial Computer Software License, when portions of a contractor's standard commercial license or lease agreement consistent with the clause, Federal laws, standard industry practices, and the FAR are to be incorporated into the purchase order or contract.

* * * * *

PART 1852—SOLICITATION PROVISIONS AND CONTRACT CLAUSES

3. The authority citation for part 1852 continues to read as follows:

Authority: 51 U.S.C. 20113(a) and 48 CFR chapter 1.

1852.203-71 [Amended]

4. Amend section 1852.203-71 by removing “AUGUST 2014” and adding “AUG 2014” in its place.

1852.204-76 [Amended]

5. Amend section 1852.204-76 by removing “MONTH YEAR” and adding “JAN 2011” in its place.

1852.215-77 [Amended]

6. Amend section 1852.215-77 by removing “DEC 1988” and adding “APR 2015” in its place.

1852.216-90 [Amended]

7. Amend section 1852.216-90 by removing “AUGUST 2014” and adding “AUG 2014” in its place.

1852.225-8 [Amended]

8. Amend the section heading of 1852.225-8 by removing “Duty-free entry of space articles” and adding “Duty-free entry of space articles (FEB 2000)” in its place.

1852.227-17 [Amended]

9. Amend the section heading of 1852.227-17 by removing “Rights in data—Special works” and adding “Rights in data—Special works (JUL 1997)” in its place.

1852.227-19 [Amended]

10. Amend the section heading of 1852.227-19 by removing “Commercial computer software—Restricted rights” and adding “Commercial computer software—Restricted rights (JUL 1997)” in its place.

1852.227-88 [Amended]

11. Amend section 1852.227-88 by adding a clause title and date immediately following the introductory text to read as follows:

1852.227-88 Government-furnished computer software and related technical data.

* * * * *

GOVERNMENT-FURNISHED COMPUTER SOFTWARE AND RELATED TECHNICAL DATA (APR 2015)

* * * * *

1852.237-72 [Amended]

12. Amend section 1852.237-72 by removing “JUNE 2005” and adding “JUN 2005” in its place.

1852.237-73 [Amended]

13. Amend section 1852.237-73 by removing “JUNE 2005” and adding “JUN 2005” in its place.

[FR Doc. 2015-26255 Filed 10-14-15; 8:45 am]

BILLING CODE 7510-13-P